ENVIRONMENTAL PROTECTION AGENCY

40 CFR Part 52

[EPA-R04-OAR-2019-0457; FRL-10004-06-Region 4]

Air Plan Approval; Georgia; Revisions to Aerospace VOC Rule

AGENCY: Environmental Protection Agency (EPA).

ACTION: Proposed rule.

SUMMARY: The Environmental Protection Agency (EPA) is proposing to approve a State Implementation Plan (SIP) revision submitted by the State of Georgia, through the Georgia Environmental Protection Division (GA EPD), on June 6, 2019, for the purpose of updating Georgia's rule titled Volatile Organic Compound (VOC) Emissions from Aerospace Manufacturing and Rework Facilities. EPA is proposing action on this Georgia SIP revision under the Clean Air Act (CAA or Act).

DATES: Comments must be received on or before February 12, 2020.

ADDRESSES: Submit your comments, identified by Docket ID No. EPA-R04-OAR-2019-0457 at www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit www2.epa.gov/dockets/commenting-epa-dockets.

FOR FURTHER INFORMATION CONTACT: Evan Adams, Air Regulatory Management Section, Air Planning and Implementation Branch, Air and Radiation Division, U.S. Environmental Protection Agency, Region 4, 61 Forsyth Street SW, Atlanta, Georgia 30303-8960. The telephone number is (404) 562-9009. Mr. Adams can also be reached via electronic mail at adams.evan@epa.gov.

SUPPLEMENTARY INFORMATION:

I. EPA's Action

A. Background

The action being proposed revises the reasonably available control technology (RACT) standard for VOC emissions at aerospace manufacturing and rework facilities in the State of Georgia. Additionally, other administrative changes are being proposed in this action.

Section 182(b)(2) of the CAA requires states to adopt RACT rules for all areas designated nonattainment for ozone and classified as moderate or above. Under Section 182(b)(2), these RACT requirements apply to: (1) Sources covered by an existing Control Technique Guideline (CTG) (i.e., a CTG issued prior to enactment of the 1990 amendments to the CAA); (2) sources covered by a post-enactment CTG; and (3) all major sources not covered by a CTG (i.e., non-CTG sources). Pursuant to 40 CFR 51.165, a major source for a moderate ozone area is a source that emits 100 tons per year (tpy) or more of VOC or nitrogen oxides (NOX).

EPA defines RACT as “the lowest emission limit that a particular source is capable of meeting by the application of control technology that is reasonably available considering technological and economic feasibility.” See 44 FR 53761, 53762 (September 17, 1979). EPA has issued CTGs that present feasible RACT control measures for VOC source categories. The CTGs recommend a “presumptive norm” or “presumptive RACT” that EPA believes satisfies the definition of RACT.

The CTGs established by EPA are guidance to the states and only provide recommendations. A state can develop its own strategy for what constitutes RACT for the various CTG categories. EPA will review that strategy in the context of the SIP process and determine whether it meets the RACT requirements of the CAA and its implementing regulations.

EPA promulgated a National Emission Standard for Hazardous Air Pollutants (NESHAP) applicable to aerospace manufacturing and rework facilities on September 1, 1995. See 60 FR 45948. The NESHAP is codified at 40 CFR part 63, subpart GG. Subsequently, in December 1997, EPA published a CTG titled “Control of Volatile Organic Compound Emissions from Coating Operations at Aerospace Manufacturing and Rework Operations.” ¹ EPA subsequently amended the NESHAP on December 7, 2015 (80 FR 76152) to incorporate revisions to the emission standards for specialty coatings, allow for annual purchase records of certain coatings, exempt two additional application methods, and update definitions.

¹ Available at https://www3.epa.gov/airquality/ctg_act/199712_voc_epa453_r-97-004_aerospace_rework.pdf.

EPA initially approved GA EPD's RACT for aerospace manufacturing and rework facilities—codified at Rule 391-3-1-.02(2)(kkk)—on July 10, 2001 (66 FR 35906). EPA approved subsequent amendments to that rule on September 28, 2012 (77 FR 55994) and March 19, 2013 (78 FR 16783) (correcting amendments), including Georgia's expansion of the rule's applicability to include all the counties in the Atlanta nonattainment area. The purpose of this rule is to limit VOC emissions from aerospace manufacturing and rework facilities that are located within or contribute to ozone levels in ozone nonattainment areas. The rules also limit VOC emissions from major sources (emitting greater than 100 tpy of VOC emissions) located outside the ozone nonattainment area.

B. Why is EPA proposing this action?

Georgia's June 6, 2019, submission amends RACT requirements applicable to VOC emissions from aerospace manufacturing and rework facilities at Georgia Rule 391-3-1-.02(2)(kkk). The rule changes incorporate EPA's December 7, 2015 (80 FR 76152) revisions to the NESHAP. As discussed below, EPA is proposing to conclude that the revisions are consistent with the CAA and the CTG.

The changes in the June 6, 2019, submittal replicate updates made to 40 CFR part 63, subpart GG, and are compliant with the State's RACT requirements. The amendments begin at Table (kkk)-1 Specialty Coating VOC Limitations and make changes to include the metric equivalent of the VOC Content Limit. The addition of the VOC Content Limit (g/L) column replicates Table 4-1. Specialty Coatings VOC Content Limit (g/L) in the CTG guidance document. This specific revision provides no substantive change and better serves the regulated community.

Georgia also revises the allowable application techniques for primers, topcoats, and specialty coatings under subparagraph 3 of the Rule. First, GA EPD adds language clarifying that the limits on application techniques apply only to “spray applied” methods. GA EPD also removes from the list all non-spray application methods, such as brush, roll, and dip coating. As EPA explained in its final rule amending the NESHAP applicable to aerospace facilities, non-spray application techniques are properly exempted from the scope of the rule because they do not cause VOC emissions. See 80 FR at 76155.

GA EPD also adds to subparagraph 9 several activities that would be exempted from Rule 391-3-1-.02(2)(kkk). First, GA EPD exempts chemical milling, as well as specific primers, topcoats, specialty coatings, chemical milling maskants, strippers, and cleaning solvents that meet the definition of non-VOC materials. EPA notes that these types of coatings are not regulated by the CTG or the NESHAP.² Moreover, GA EPD retains requirements applicable to chemical milling maskants (defined as coatings that are applied directly to aluminum components to protect surface areas when chemical milling the component with a Type I or Type II etchant), as well as maskants that must be used with a combination of Type I or II etchants and any of the above types of maskants (i.e., bonding, critical use and line sealer, and seal coat).³ EPA has preliminarily concluded that these changes are consistent with the CTG.

² Non-VOC materials are defined as a primer, topcoat, specialty coating, chemical milling maskant, cleaning solvent or stripper that contains no more than 1.0 percent by mass VOC in Subparagraph 17 of this Rule.

³ See EPA's action on December 7, 2015 (80 FR 76152), “National Emissions Standard for Aerospace Manufacturing and Rework Facilities Risk and Technology Review”; see also Type I and Type II etchant definitions in this rulemaking.

In Subparagraph 9(xiv), parts and assemblies not critical to the structural integrity of the vehicle or flight performance would be exempted from Rule 391-3-1-.02(2)(kkk). This provision would exempt from the RACT requirements the manufacture or rework of certain non-critical airplane components, such as tray tables and seat panels. EPA notes that the manufacture or rework of these non-critical components are already subject to separate RACT requirements under Georgia's SIP-approved Rule 391-3-1-.02(2)(vvv)—VOC Emissions from Surface Coating of Miscellaneous Plastic Parts and Products.⁴ Thus, EPA believes that the exemption of these activities from Georgia's aerospace RACT rule will not negatively impact VOC emissions. Accordingly, EPA is preliminarily concluding that the exemption of these activities from the aerospace-specific Rule 391-3-1-.02(2)(kkk) is consistent with the CTG and with RACT.

⁴ See 67 FR 72276, 72280 (Dec. 4, 2002).

Additionally, the revised Rule 391-3-1-.02(2)(kkk) would provide an exemption for primers, topcoats, and specialty coatings that meet the definition of “classified national security information” in Subparagraph 17(xvii). This exemption is consistent with RACT, as well as Executive Order 13526, “Classified National Security Information,” December 29, 2009, which outlines the different components and restrictions applicable to certain classified materials.

Finally, GA EPD adds an exemption for the rework of aircraft or aircraft components if the holder of the Federal Aviation Administration design approval, or the holder's licensee, is not actively manufacturing the aircraft or aircraft components. As EPA noted in its September 1, 1998 rulemaking amending 40 CFR part 63, subpart GG, this exemption would apply to facilities that rework aircraft or aircraft components whose original manufacturer has gone out of business. See 63 FR 46526, 46528 (Sept. 1, 1998). EPA also noted that this exemption only affects small numbers of aircraft, and that compliance with VOC limits in these circumstances would involve considerable expense. Id. For these reasons, EPA is preliminarily concluding that this exemption is consistent with RACT.

At subparagraph 10, GA EPD removes an exemption from specialty coating requirements for low volume specialty coatings used under a specified twelve-month average quantity. EPA believes the removal of this exemption will be SIP strengthening and is, thus, proposing to approve it.

At Subparagraph 11, GA EPD removes the exemption for specialty coatings and exempts spray applications of no more than 3.0 fluid ounces of coating in a single application from a hand-held device with a paint cup capacity that is equal to or less than 3.0 fluid ounces. EPA believes that application of this quantity of coating will cause minimal, if any, emissions.

The revision would also exempt adhesives, sealants, maskants, caulking materials, and inks under Subparagraph 11, as well as the application of coatings that contain less than 0.17 pounds of VOC per gallon of coating. EPA notes that adhesives, sealants, maskants, caulking materials, and inks are not atomized in the same way as other coatings during application and, therefore, are not high emitters of VOCs during the application process. In addition, coatings that contain less than 0.17 pounds of VOC per gallon (20 grams/liter) are low category emitters.⁵ EPA also notes that activities qualifying for the exemption must comply with the emission limits at subparagraphs 1 and 2—and are only exempted from certain operational limits in Subparagraphs 3 and 4 (i.e., limits on application techniques, requirement to comply with applicable operational procedures). In these circumstances, EPA has preliminarily concluded that GA EPD's revisions to the exemption at Subparagraph 11 are consistent with RACT.

⁵ EPA notes that the CTG and GA's RACT rule regulate coatings with significantly higher VOC concentrations at Table 4-1 of the CTG and Table (kkk)-1 of Georgia Rule 391-3-1-.02(2)(kkk), respectively.

In subparagraph 15, GA EPD adds additional recordkeeping requirements, as determined by the specific compliance option chosen at Subparagraph 2. EPA believes the addition of these recordkeeping requirements will be SIP strengthening it requires affected facilities to retain certain records that are directly related to their chosen method of compliance. Thus, EPA has preliminarily concluded that these requirements are consistent with the CTG's monitoring, recordkeeping, and reporting requirements.

GA EPD also makes minor administrative changes throughout the rule, such as revising definitions at Subparagraph 17 and renumbering certain sections and subparagraphs. In conclusion, EPA has preliminarily determined the standard in the Georgia SIP that regulates aerospace and rework facilities aligns with the applicable CTG and meets the RACT requirements. Furthermore, EPA does not foresee any emissions increase from this SIP revision. EPA is thus proposing to approve changes to Rule 391-3-1-.02(2)(kkk), as included in Georgia's June 6, 2019 submittal.

II. Incorporation by Reference

In this document, EPA is proposing to include in a proposed EPA rule regulatory text that includes incorporation by reference. In accordance with requirements of 1 CFR 51.5, EPA is proposing to incorporate by reference the Georgia Regulation subparagraph 391-3-1-.02(2)(kkk) entitled “VOC Emissions from Aerospace Manufacturing and Rework Facilities,” effective February 17, 2019, which incorporates revisions to the emission standards for specialty coatings, allows for annual purchase records of certain coatings, exempts two additional application methods, and updates definitions.

EPA has made, and will continue to make, these materials generally available through www.regulations.gov and at the EPA Region 4 office (please contact the person identified in the “For Further Information Contact” section of this preamble for more information).

III. Proposed Action

EPA is proposing to approve the Georgia SIP revision to Rule 391-3-1-.02(2)(kkk), “VOC Emissions from Aerospace Manufacturing and Rework Facilities,” submitted on June 6, 2019. EPA has evaluated Georgia's submittal and preliminarily determined that they meet the applicable requirements of the CAA and EPA regulations.

IV. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Incorporation by reference, Ozone, Reporting and recordkeeping requirements, Volatile organic compounds.

Authority: 42 U.S.C. 7401 et seq.

Dated: December 26, 2019.
Blake M. Ashbee,
Acting Regional Administrator, Region 4.

[FR Doc. 2020-00327 Filed 1-10-20; 8:45 am]

BILLING CODE 6560-50-P